DEPARTMENT OF TRANSPORTATION

Federal Aviation Administration

14 CFR Part 73

[Docket No. FAA-2017-0985 Airspace Docket No. 17-AWP-21]

Amendment of Multiple Restricted Areas; Vandenberg AFB, CA

AGENCY: Federal Aviation Administration (FAA), DOT.

ACTION: Final rule; technical amendment.

SUMMARY: This action makes minor adjustments to the boundary descriptions of restricted areas R-2516, R-2517, R-2534A and R-2534B; Vandenberg AFB, CA. The changes are necessary as a result of the FAA using updated digital data that defines maritime limits and other geophysical features used in the boundary descriptions. This requires minor changes to certain latitude/longitude points in the boundary descriptions of the above restricted areas to match the updated digital data.

DATES: Effective date 0901 UTC, February 1, 2018.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority since it makes minor updates to certain boundary coordinates for restricted areas R-2516, R-2517, R-2534A and R-2534B; Vandenberg AFB, CA, to match updated digital shoreline data received from the National Oceanic and Atmospheric Administration (NOAA).

Background

Some restricted area boundary descriptions use maritime limits, such as the shoreline of the U.S., to identify the shape of the area (e.g., “3 nautical miles from and parallel to the shoreline”). These boundary descriptions contain latitude/longitude coordinates that were intended to either join, or run parallel to, the shoreline.

For a variety of reasons, maritime limits change over time. The FAA has received updated digital data for maritime limits from NOAA. Digital data is more precise than measurements used in the past. The FAA, through the implementation of its data-driven charting process, was able to utilize this new data to accurately update the U.S. maritime limit boundaries used for aeronautical charting. Prior to the update, the maritime limit boundary data used for charting were over 25 years old. In applying the updated data, FAA found that some restricted area boundary descriptions, that were based on the maritime limits, did not correspond to the updated shoreline data. Consequently, there are minor mismatches between some restricted area latitude/longitude coordinates and the actual shoreline position.

This rulemaking action updates the affected boundary coordinates of restricted areas R-2516, R-2517, R-2534A and R-2534B, in California to maintain the intended shape of the airspace in relation to the U.S. shoreline and to improve their representations on aeronautical charts.

The Rule

This action amends Title 14 Code of Federal Regulations (14 CFR) part 73 to make minor adjustments to certain latitude/longitude coordinates in the descriptions of restricted areas R-2516, R-2517, R-2534A and R-2534B, in California. The changes are necessary as a result of the FAA using digital data for aeronautical charting. This more precise digital plotting of points revealed minor mismatches between some of the current restricted area boundary coordinates and the more accurate digital data for those points. The specific restricted area boundary updates are shown below:

R-2516: The point “lat. 35°00′00″ N., long. 120°42′04″ W.” is changed to “lat. 35°00′06″ N., long. 120°42′12″ W.” and the point “lat. 34°42′00″ N., long. 120°40′22″ W.” is changed to “lat. 34°42′00″ N., long. 120°40′01″ W.” These changes reflect updated digital shoreline data.

R-2517: The point “lat. 34°42′00″ N., long. 120°40′22″ W.” is changed to “lat. 34°42′00″ N., long. 120°40′01″ W.” and the point “lat. 34°24′00″ N., long. 120°30′04″ W.” is changed to “lat. 34°24′04″ N., long. 120°29′51″ W.” These changes reflect updated digital shoreline data.

R-2534A: The point “lat. 34°25′10″ N., long. 120°15′34″ W.” is changed to “lat. 34°25′00″ N., long. 120°15′34″ W.” and the point “lat. 34°24′40″ N., long. 120°19′14″ W.” is changed to “lat. 34°24′39″ N., long. 120°19′13″ W.” These changes reflect updated digital shoreline data.

R-2534B: The point “lat. 34°24′40″ N., long. 120°19′14″ W.” is changed to “lat. 34°24′39″ N., long. 120°19′13″ W.” These changes reflect updated digital shoreline data.

These minor editorial changes update existing restricted area boundaries with more precise digital information. It does not affect the location, designated altitudes, or activities conducted within the restricted areas; therefore, notice and public procedure under 5 U.S.C. 553(b) are unnecessary.

Regulatory Notices and Analyses

The FAA has determined that this action only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5d, modification of the technical description of special use airspace (SUA) that does not alter the dimensions, altitudes, or times of designation of the airspace. This airspace action makes minor updates to certain boundary coordinates of restricted areas R-2516, R-2517, R-2534A and R-2534B; Vandenberg AFB, CA, to match the digital shoreline data received from the NOAA Administration. This ensures that the affected boundaries continue to match the NOAA-defined position of the U.S. shoreline. It does not alter the location, altitudes, or activities conducted within the airspace; therefore, it is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(f), 106(g), 40103, 40113, 40120; E.O. 10854, 24 FR 9565, 3 CFR, 1959-1963 Comp., p. 389.

§ 73.25 [Amended]

2. Section 73.25 is amended as follows:

* * * * *

R-2516 Vandenberg AFB, CA [Amended]

By removing the current boundaries and inserting the following:

Boundaries. Beginning at lat. 35°00′06″ N., long. 120°42′12″ W.;

to lat. 34°54′00″ N., long. 120°33′04″ W.;

to lat. 34°50′00″ N., long. 120°32′04″ W.;

to lat. 34°46′00″ N., long. 120°27′04″ W.;

to lat. 34°42′00″ N., long. 120°30′04″ W.;

to lat. 34°38′35″ N., long. 120°31′24″ W.;

to lat. 34°42′00″ N., long. 120°34′34″ W.;

to lat. 34°42′00″ N., long. 120°40′01″ W.;

thence 3 NM from and parallel to the shoreline to the point of beginning.

R-2517 Vandenberg AFB, CA [Amended]

By removing the current boundaries and inserting the following:

Boundaries. Beginning at lat. 34°42′00″ N., long. 120°40′01″ W.;

to lat. 34°42′00″ N., long. 120°34′34″ W.;

to lat. 34°38′35″ N., long. 120°31′24″ W.;

to lat. 34°35′00″ N., long. 120°32′04″ W.;

to lat. 34°25′00″ N., long. 120°27′04″ W.;

to lat. 34°24′04″ N., long. 120°29′51″ W.;

thence 3 NM from and parallel to the shoreline to the point of beginning.

* * * * *

R-2534A Vandenberg AFB, CA [Amended]

By removing the current boundaries and inserting the following:

Boundaries. Beginning at lat. 34°38′35″ N., long. 120°31′24″ W.;

to lat. 34°35′45″ N., long. 120°28′14″ W.;

to lat. 34°36′20″ N., long. 120°27′24″ W.;

to lat. 34°30′00″ N., long. 120°15′34″ W.;

to lat. 34°25′00″ N., long. 120°15′34″ W.;

thence 3 NM from and parallel to the shoreline

to lat. 34°24′39″ N., long. 120°19′13″ W.;

to the point of beginning.

R-2534B Vandenberg AFB, CA [Amended]

By removing the current boundaries and inserting the following:

Boundaries. Beginning at lat. 34°38′35″ N., long. 120°31′24″ W.;

to lat. 34°24′39″ N., long. 120°19′13″ W.;

to lat. 34°25′00″ N., long. 120°27′04″ W.;

to lat. 34°35′00″ N., long. 120°32′04″ W.;

to the point of beginning.

* * * * *

Issued in Washington, DC, on October 31, 2017.
Rodger A. Dean, Jr.,
Manager, Airspace Policy Group.

[FR Doc. 2017-24103 Filed 11-3-17; 8:45 am]

BILLING CODE 4910-13-P